DEPARTMENT OF HOMELAND SECURITY

Coast Guard

46 CFR Part 106

[Docket No. USCG-2015-0086]

RIN 1625-AC23

Requirements for Vessels With Registry Endorsements or Foreign-Flagged Vessels That Perform Certain Aquaculture Support Operations

AGENCY: Coast Guard, DHS.

ACTION: Final rule; information collection approval.

SUMMARY: The Coast Guard announces that it has received approval from the Office of Management and Budget (OMB) for an information collection request associated with the Requirements for Vessels with Registry Endorsements or Foreign-Flagged Vessels that Perform Certain Aquaculture Support Operations final rule we published in the Federal Register on September 15, 2016. In that rule, we stated the final rule will impose a new information collection requirement and that we would submit this new information collection requirement to OMB for its review. OMB approved this new collection of information on September 28, 2016, and assigned it OMB Control Number 1625-0126.

DATES: On September 28, 2016, the Office of Management and Budget (OMB) approved the Coast Guard's collection of information request associated with the Requirements for Vessels with Registry Endorsements or Foreign-Flagged Vessels that Perform Certain Aquaculture Support Operations final rule published on September 15, 2016 at 81 FR 63420. OMB's approval for this collection of information expires on September 30, 2019.

FOR FURTHER INFORMATION CONTACT: If you have questions on this rule, call or email Mr. David Belliveau, Fishing Vessels Division (CG-CVC-3), U.S. Coast Guard; telephone 202-372-1247, email David.J.Belliveau@uscg.mil.

SUPPLEMENTARY INFORMATION:

Viewing Items Associated With This Document

To view OMB's approval memo or the Requirements for Vessels with Registry Endorsements or Foreign-Flagged Vessels that Perform Certain Aquaculture Support Operations final rule, go to www.regulations.gov, type the docket number, USCG-2015-0086, in the “SEARCH” box and click “SEARCH.” Click on “Open Docket Folder” in the first item listed. Use the following link to go directly to the docket: http://www.regulations.gov/docket?D=USCG-2015-0086.

Background

On September 15, 2016, the Coast Guard published a final rule (81 FR 63420) that implemented Requirements for Vessels with Registry Endorsements or Foreign-Flagged Vessels that Perform Certain Aquaculture Support Operations. Section 46 CFR 106.115 in that rule contains a collection-of-information provision that requires approval by OMB under the Paperwork Reduction Act of 1995, 44 U.S.C. 3501-3520. On September 28, 2016, OMB approved the Coast Guard's collection of information request for this final rule and assigned OMB Control Number 1625-0126 to the collection. The approval for this collection of information expires on September 30, 2019.

This document is issued under the authority of 5 U.S.C. 552(a).

Dated: October 15, 2016.
V.B. Gifford, Jr.,
Captain, U.S. Coast Guard, Director of Inspections and Compliance.

[FR Doc. 2016-25364 Filed 10-20-16; 8:45 am]

BILLING CODE 9110-04-P